FEDERAL COMMUNICATIONS COMMISSION

47 CFR Part 73

[DA 03-2263; MB Docket No. 03-160; RM-10706]

Radio Broadcasting Services; Camp Verde and Payson, AZ

AGENCY: Federal Communications Commission.

ACTION: Proposed rule.

SUMMARY: This document requests comments on a petition for rulemaking filed by Sierra H. Broadcasting, Inc. requesting the reallotment of Channel 282C from Payson, Arizona to Camp Verde, Arizona, as the community's first local aural transmission service, and modification of the license for Station KAJM to reflect the changes. Channel 282C can be allotted to Camp Verde at coordinates 34-25-48 and 111-30-16. Mexican concurrence will be requested for the allotment of Channel 282C at Camp Verde. In accordance with Section 1.420(i) of the Commission's Rules, we shall not accept competing expressions of interest in the use of channel 282C at Camp Verde.

DATES: Comments must be filed on or before September 5, 2003, and reply comments on or before September 22, 2003.

ADDRESSES: Secretary, Federal Communications Commission, 445 Twelfth Street, SW., Washington, DC 20554. In addition to filing comments with the FCC, interested parties should serve the petitioner's counsel as follows: Barry A. Friedman, Thompson Hine LLP, 1920 N Street, NW., Washington, DC 20036.

FOR FURTHER INFORMATION CONTACT: Kathleen Scheuerle, Media Bureau, (202) 418-2180.

SUPPLEMENTARY INFORMATION: This is a synopsis of the Commission's Notice of Proposed Rule Making, MB Docket No. 03-160, adopted July 9, 2003, and released July 14, 2003. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone 202-863-2893, or via e-mail qualexint@aol.com

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Arizona, is amended by removing Channel 282C at Payson, and by adding Camp Verde, Channel 282C.

Federal Communications Commission.
John A. Karousos,
Assistant Chief, Audio Division, Media Bureau.

[FR Doc. 03-18808 Filed 7-23-03; 8:45 am]

BILLING CODE 6712-01-P